DEPARTMENT OF THE INTERIOR

Fish and Wildlife Service

[FWS-R9-R-2010-N265; 93261-1263-0000-4A]

Proposed Information Collection; OMB Control Number 1018-0102; Applications for Special Use Permits on National Wildlife Refuges

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on April 30, 2011. We may not conduct or sponsor and a person is not required to respond to a collection of information unless it displays a currently valid OMB control number.

DATES: To ensure that we are able to consider your comments on this IC, we must receive them by January 28, 2011.

ADDRESSES: Send your comments on the IC to the Service Information Collection Clearance Officer, Fish and Wildlife Service, MS 222-ARLSQ, 4401 North Fairfax Drive, Arlington, VA 22203 (mail); or infocol@fws.gov (e-mail).

FOR FURTHER INFORMATION CONTACT: To request additional information about this IC, contact Kevin Kilcullen by e-mail at Kevin_Kilcullen@fws.gov or by telephone at (703) 358-2382.

SUPPLEMENTARY INFORMATION:

I. Abstract

The National Wildlife Refuge System Administration Act of 1966 (16 U.S.C. 668dd-668ee) (Administration Act) and the Refuge Recreation Act of 1962 (16 U.S.C. 460k-460k-4) (Recreation Act) govern the administration and uses of national wildlife refuges and wetland management districts. The Administration Act consolidated all of the different refuge areas into a single National Wildlife Refuge System (System). It also authorizes us to permit public accommodations, including commercial visitor services, on lands of the System when we find that the activity is compatible and appropriate with the purpose for which the refuge was established. The Recreation Act allows the use of refuges for public recreation when it is not inconsistent or does not interfere with the primary purpose(s) of the refuge.

In our general refuge regulations, we provide for public entry for specialized purposes, including economic activities such as the operation of guiding and other visitor services on refuges by concessionaires or cooperators under the appropriate legal instrument or special use permits (50 CFR 25.41, 25.61, 26.36, 27.71, 27.91, 27.97, 29.1, 29.2, 30.11, 31.2, 31.13, 31.14, 31.16, 32.2(1), 36.31, 36.32, 36.33, 36.37, 36.39, and 36.41, and 43 CFR 5). These regulations provide the authorities and procedures for allowing permits on refuges.

Previously, we used FWS Form 3-1383 (Special Use Application and Permit) for all activities. However, experience has indicated that some types of activities, such as commercial use or research, require that we collect detailed information on the specific activity so that we can more effectively manage the numerous uses being conducted on System lands.

We are proposing to use three forms as applications for Special Use Permits:

(1) FWS Form 3-1383. We will use this form for the majority of activities including, but not limited to:

• Special events, such as fishing tournaments.

• Personal events, such as weddings.

• Beneficial management activities, such as wood cutting or rotational grazing, that we use to provide the best habitat possible on some refuges.

• Group visits and other one-time events.

(2) FWS Form 3-XXXX (Commercial Special Use Application and Permit). We will use this form for commercial activities including, but not limited to:

• Recreational visitor service operations.

• Commercial filming.

• Agricultural activities.

• Guiding for fishing, hunting, wildlife education, and interpretation.

• Building and using cabins to support subsistence or commercial activities (in Alaska).

(3) FWS Form 3-YYYY (Research Special Use Application and Permit). We will use this form to authorize research and monitoring activities on a refuge.

We plan to collect the following information. However, not all information will have to be provided, depending on the permit and specific activity:

• Type of activity/project.

• Identifying data (such as, name, business, or principal investigator, title, organization or affiliation, address, telephone number, and e-mail address).

• Whether the request is for a new permit or renewal or modification of an existing permit.

• Description, frequency and time line of the activity/project.

• Location/map.

• Assistants/subpermittees.

• Description of how the activity/project will help the refuge fulfill its purpose (FWS Form 3-YYYY).

• Insurance coverage.

• Licenses/permits required.

• Support/subcontractors used to support the activity.

• Equipment/gear and materials.

• Whether or not the activity requires overnight stay.

• Transportation logistics and requirements.

• Descriptions of work and living accommodations.

• Number of clients and/or participants.

• Certifications.

• Tax ID number or Social Security Number (FWS Form 3-XXXX).

• Whether or not an applicant or subpermittee has been convicted of a felony, or issued a national wildlife refuge notice of violation. If yes, applicant must provide details and court action taken (FWS Form 3-XXXX).

• Trip schedule(s).

• Curriculum Vitae or resume of principal researcher (FWS Form 3-YYYY).

• Relationship of principal researcher to affiliation/organization (such as professor, staff, student, etc) (FWS Form 3-YYYY).

• Full proposal of the planned research (FWS Form 3-YYYY).

• Description of how project will benefit the management of the refuge including how the project may benefit the management of threatened or endangered species (FWS Form 3-YYYY).

Some permits may require submission of:

• Interim and final reports.

• Safety plans.

• Operational plans.

• Minimum Requirements Decision Assessment for activities/projects requested in wilderness areas.

• Assurance of Animal Care Form (or equivalent) for research involving animals.

• Before and after photograph of site.

II. Data

OMB Control Number: 1018-0102.

Title: Applications for Special Use Permits on National Wildlife Refuges, 50 CFR 25.41, 25.61, 26.36, 27.71, 27.91, 27.97, 29.1, 29.2, 30.11, 31.2, 31.13, 31.14, 31.16, 32.2(1), 36.31, 36.32, 36.33, 36.37, 36.39, and 36.41.

Service Form Number(s): 3-1383, 3-XXXX, and 3-YYYY.

Type of Request: Revision of a currently approved collection.

Description of Respondents: Individuals and households; business and other for-profit organizations; nonprofit institutions; farms; and State, local, or Tribal governments.

Respondent's Obligation: Required to obtain or retain a benefit.

Frequency of Collection: On occasion.

Activity | Number of respondents | Number of responses | Completion time per response | Total annual burden hours
FWS Form 3-1383 | 13,500 | 13,500 | 1 hour | 13,500
FWS Form 3-XXXX | 1,200 | 1,200 | 4 hours | 4,800
FWS Form 3-YYYY | 300 | 300 | 4 hours | 1,200
Totals | 15,000 | 15,000 |  | 19,500

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: November 23, 2010.
Hope Grey,
Information Collection Clearance Officer, Fish and Wildlife Service.

[FR Doc. 2010-29977 Filed 11-26-10; 8:45 am]

BILLING CODE 4310-55-P